DEPARTMENT OF THE INTERIOR

Bureau of Land Management

[LLWYP06000.LL13100000.DB0000]

Notice of Availability of a Proposed Resource Management Plan Amendment and Final Environmental Impact Statement for the Converse County Oil and Gas Project, Converse County, Wyoming

AGENCY: Bureau of Land Management, Interior.

ACTION: Notice of availability.

SUMMARY: In accordance with the National Environmental Policy Act of 1969, as amended (NEPA), the Bureau of Land Management (BLM) has prepared a Proposed Resource Management Plan (RMP) Amendment and Final Environmental Impact Statement (EIS) that evaluates, analyzes, and discloses to the public direct, indirect, and cumulative environmental impacts of the project proposal and the amendment for the Casper RMP to allow relief from timing stipulations for non-eagle raptors within the Converse County Oil and Gas Project Area (CCPA) in Converse County, Wyoming. This notice announces a 30-day protest period pursuant to 43 CFR 1610.

DATES: This notice initiates a 30-day protest period for the Proposed RMP Amendment. In accordance with 43 CFR 1610.5-2, protests on the Proposed RMP Amendment must be submitted on or before August 31, 2020. The BLM will issue a Record of Decision no earlier than 30 days from the date of the Notice of Availability published by the Environmental Protection Agency.

ADDRESSES: The Proposed RMP Amendment and Final EIS may be examined online at https://go.usa.gov/xdYhv or at the following offices:

• BLM Casper Field Office, 2987 Prospector Drive, Casper, Wyoming 82604;

• BLM Wyoming State Office, 5353 Yellowstone Road, Cheyenne, Wyoming 82009.

All protests on the Proposed RMP Amendment must be submitted in writing by any of the following methods:

Website: https://go.usa.gov/xdYhv.

Regular Mail: BLM Director (210), Attention: Protest Coordinator, P.O. Box 71383, Washington, DC 20024-1383.

Overnight Delivery: BLM Director (210), Attention: Protest Coordinator, 20 M Street SE, Room 2134LM, Washington, DC 20003.

FOR FURTHER INFORMATION CONTACT: Mike Robinson, Project Manager, telephone: 307-261-7520; address: 2987 Prospector Drive, Casper, Wyoming 82604; email: blm_wy_casper_wymail@blm.gov. Persons who use a telecommunications device for the deaf (TDD) may call the Federal Relay Service (FRS) at 1-800-877-8339 to contact Mr. Robinson during normal business hours. The FRS is available 24 hours a day, 7 days a week, to leave a message or question with the above individual. You will receive a reply during normal business hours.

SUPPLEMENTARY INFORMATION: An operator group (OG) comprised of Chesapeake Energy Corporation, Devon Energy, EOG Resources, Inc., Northwoods Energy and Occidental Petroleum, propose to develop oil and gas leases within the CCPA in Converse County, Wyoming.

The CCPA encompasses approximately 1.5 million acres of land, of which approximately 88,466 surface acres (6 percent of the CCPA) are public lands administered by the BLM and approximately 63,911 surface acres (4 percent of the CCPA) are administered by the United States Forest Service. The remaining surface estate consists of approximately 101,012 surface acres (7 percent) administered by the State of Wyoming and approximately 1,247,477 surface acres (83 percent) that are privately owned. The BLM administers approximately 964,525 acres of mineral estate (64 percent) within the CCPA. Split estate lands, lands with private surface and Federal mineral ownership, comprise approximately 812,189 acres of those 964,525 acres (54 of the 64 percent) of the mineral ownership within the CCPA.

The Final EIS describes and analyzes the impacts of Alternative A, the No Action Alternative, Alternative B, the OG's Proposed Action including six options as amendments to the Casper RMP and Alternative C. The Supplement to the Draft EIS detailed options 1 through 5 for Alternative B. Option 6, the Proposed RMP Amendment, was developed to incorporate comments from the Governor of the State of Wyoming and the OG.

The agency preferred alternative and proposed plan amendment was identified in the Final EIS as Alternative B and Option 6. These presented the best means to allow for continued development in the area while minimizing impacts to resources.

Any person who participated in the planning process and has an interest which is, or may be, adversely affected by the approval or amendment of the RMP may protest such approval or amendment. A protest may raise only those issues which were submitted for the record during the planning process. Instructions for filing a protest with the Director of the BLM regarding the Proposed RMP Amendment/Final EIS may be found in the “Dear Reader” Letter of the Final EIS and Proposed RMP Amendment and at 43 CFR 1610.5-2. All protests must be in writing and mailed to the appropriate address, as set forth in the ADDRESSES section above. Emailed protests will not be accepted as valid protests unless the protesting party also provides the original letter by either regular mail or overnight delivery postmarked by the close of the protest period. Under these conditions, the BLM will consider the email as an advanced copy, and it will receive full consideration. If you wish to provide the BLM with such advance notification, please direct emails to: protest@blm.gov.

Before including your address, phone number, email address or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Duane Spencer,
State Director, Wyoming.

[FR Doc. 2020-16563 Filed 7-30-20; 8:45 am]

BILLING CODE 4310-22-P